NUCLEAR REGULATORY COMMISSION

Workshop on the Industry Initiating Events Performance Indicator for the Industry Trends Program

AGENCY: Nuclear Regulatory Commission.

ACTION: Notice of workshop.

SUMMARY: The Nuclear Regulatory Commission (NRC) is holding a workshop on issues related to the Industry Initiating Events Performance Indicator (IIEPI) for the NRC's Industry Trends Program (ITP). The public workshop is being held to discuss the technical approach and characteristics of the IIEPI.

FOR FURTHER INFORMATION, CONTACT: Thomas H. Boyce, Inspection Program Branch, U.S. Nuclear Regulatory Commission, Washington, DC 20555-0001. Mr. Boyce may be reached at (301) 415-1130 or by e-mail at thb@nrc.gov.

DATES: The workshop will be held on July 30, 2003, from 8:30 a.m. to 2:30 p.m.

ADDRESSES: The workshop will be held in Room O-7B4 at the U.S. Nuclear Regulatory Commission in the One White Flint North Building, 11545 Rockville Pike, Rockville, Maryland.

The workshop will focus on the technical approach and characteristics discussed in the draft report “Development of an Integrated Industry Initiating Events Indicator.” The draft report is available for public inspection in the NRC Public Document Room located at One White Flint North, 11555 Rockville Pike, Public File Area O1 F21, Rockville, Maryland, or from the Publicly Available Records (PARS) component of NRC's Agencywide Document Access and Management System (ADAMS), (ADAMS # ML031750752). ADAMS is accessible from the NRC Web site at http://www.nrc.gov/NRC/ADAMS/index.html (the Public Electronic Reading Room). For more information, contact the NRC Public Document Room (PDR) reference staff at 1-800-397-4209, 301-415-4737 or by email to pdr@nrc.gov.

Those who are unable to attend in person may send written comments on the draft report to: Chief, Rules and Directives Branch, Division of Administrative Services, Office of Administration, Mail Stop T6-D59, U.S. Nuclear Regulatory Commission, Washington, DC 20555-0001. Comments may be hand-delivered to the NRC at 11545 Rockville Pike, Rockville, Maryland, between 7:45 a.m. and 4:15 p.m. on Federal workdays. Comments may be submitted by Email at nrcrep@nrc.gov. All comments received by the Commission, including comments made by Federal, State, and local agencies, Indian tribes, or other interested persons, will be made available electronically at the Commission's PDR in Rockville, Maryland, or from the PARS component of ADAMS.

SUPPLEMENTARY INFORMATION: The IIEPI is being developed as part of the NRC's Industry Trends Program (ITP) to provide a more risk-informed indicator of the industry safety performance of operating power reactors for initiating events. The indicators in the ITP are used by the NRC to report to Congress on industry safety performance as part of NRC's annual Performance and Accountability Report. Information on the ITP may be found in SECY-03-0057, “FY 2002 Results of the Industry Trends Program for Operating Power Reactors and Status of Ongoing Development,” which is available electronically on the NRC's Web page at http://www.nrc.gov/reading-rm/doc-collections/commission/secys/2003/.

The draft technical report describes the technical approach and characteristics of the IIEPI, as well as an approach to establishing thresholds for the indicator. The following topics in the draft report will be discussed during the workshop:

• Industry Trends Program and Framework for IIEPI

• Technical Approach to IIEPI

• IIEPI Characteristics

• Technical Discussion

• Implementation Discussion

Dated at Rockville, Maryland, this 25th day of June 2003.
For the Nuclear Regulatory Commission.
Stuart A. Richards,
Chief, Inspection Program Branch, Division of Inspection Program Management, Office of Nuclear Reactor Regulation.

[FR Doc. 03-16701 Filed 7-1-03; 8:45 am]

BILLING CODE 7590-01-P